RAILROAD RETIREMENT BOARD

Agency Forms Submitted for OMB Review

Summary: In accordance with the Paperwork Reduction Act of 1995 (44 U.S.C. chapter 35), the Railroad Retirement Board (RRB) has submitted the following proposal(s) for the collection of information to the Office of Management and Budget for review and approval.

Summary of Proposal(s):

(1) Collection title: System Access Application.

(2) Form(s) submitted: BA-12.

(3) OMB Number: 3220-XXXX.

(4) Expiration date of current OMB clearance: Not applicable.

(5) Type of request: New collection.

(6) Respondents: Business or other for-profit.

(7) Estimated annual number of respondents: 516.

(8) Total annual responses: 900.

(9) Total annual reporting hours: 283.

(10) Collection description: The collection obtains information from railroad employers needed to provide system access to employees who will be allowed to submit employer reporting forms to the RRB over the Internet. information obtained includes the level of access the employee will have to the system, i.e. view only, data entry/modification, or approval.

Additional Information or Comments: Copies of the forms and supporting documents can be obtained from Chuck Mierzwa, the agency clearance officer (312-751-3363).

Comments regarding the information collection should be addressed to Ronald J. Hodapp, Railroad Retirement Board, 844 North Rush Street, Chicago, Illinois, 60611-2092 and to the OMB Desk Officer for the RRB, at the Office of Management and Budget, Room 10230, New Executive Office Building, Washington, DC 20503.

Chuck Mierzwa,
Clearance Officer.

[FR Doc. 03-6494 Filed 3-18-03; 8:45 am]

BILLING CODE 7905-01-M